DEPARTMENT OF COMMERCE

National Oceanic and Atmospheric Administration

RIN 0648-XD912

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Plan Development Team and Advisory Panel to consider actions affecting New England fisheries in the exclusive economic zone (EEZ). Recommendations from this group will be brought to the full Council for formal consideration and action, if appropriate.

DATES: This meeting will be held on Wednesday, May 13, 2015 at 9 a.m.

ADDRESSES:

Meeting address: The meeting will be held at the Courtyard by Marriott, 55 Jefferson Park Road, Warwick, RI 02888; telephone: (401) 467-6900; fax: (401) 467-2666.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: Recipients of recent Scallop RSA awards will provide a status update and summary of preliminary findings to the Scallop Plan Development Team (PDT) and Advisory Panel (AP). Presentations will include RSA projects that have not yet been used directly in the scallop management process. This meeting is not a formal review of the methods or results of these projects. Instead, this meeting is only an overview to better inform the PDT and AP of current research status and help identify future research priority recommendations. Other issues may be discussed, time permitting.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: April 21, 2015.
Tracey L. Thompson,
Acting Deputy Director, Office of Sustainable Fisheries, National Marine Fisheries Service.

[FR Doc. 2015-09587 Filed 4-23-15; 8:45 am]

BILLING CODE 3510-22-P